NUCLEAR REGULATORY COMMISSION

[Docket Nos. 50-275, 50-323; NRC-2012-0234]

Pacific Gas and Electric; Diablo Canyon Power Plant, Units 1 and 2; Application for Amendment to Facility Operating License

AGENCY: Nuclear Regulatory Commission.

ACTION: License amendment application; withdrawal.

ADDRESSES: Please refer to Docket ID NRC-2012-0234 when contacting the NRC about the availability of information regarding this document. You may access information related to this document, which the NRC possesses and are publicly available, using any of the following methods:

• Federal Rulemaking Web site: Go to http://www.regulations.gov and search for Docket ID NRC-2012-0234. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Joseph M. Sebrosky, Senior Project Manager, Office of Nuclear Reactor Regulation, U.S. Nuclear Regulatory Commission, Washington, DC 20555-0001; telephone: 301-415-1132; email: Joseph.Sebrosky@nrc.gov.

SUPPLEMENTARY INFORMATION:

The U.S. Nuclear Regulatory Commission (NRC or the Commission) has granted the request of Pacific Gas and Electric (the licensee) to withdraw its application dated October 24, 2011 (ADAMS Accession No. ML11326A070), as supplemented by letters dated March 30, April 12, April 30, and June 18, 2012 (ADAMS Accession Nos. ML12093A043, ML12104A022, ML12122A012, and ML12171A233, respectively), for a proposed amendment to Facility Operating License Nos. DPR-80 and DPR-82 for the Diablo Canyon Power Plant, Units 1 and 2, located in San Luis Obispo County, California.

The proposed amendment would have modified the facility Technical Specification 3.3.5, “Loss of Power Diesel Generator Start Instrumentation,” to correct the nonconservative first level undervoltage relays limits contained in Surveillance Requirement 3.3.5.3; revise the Final Safety Analysis Report Update (FSARU) Appendix 6.2D and Sections 6.3, 15.3, and 15.4; revise the loss-of-coolant accident control room operator and offsite dose analysis of record described in the FSARU; and provide a new process for revising input values to this analysis.

The Commission had previously issued a Notice of Consideration of Issuance of Amendment published in the Federal Register on May 15, 2012 (77 FR 28632). However, by letter dated September 27, 2012 (ADAMS Accession No. ML12272A098), the licensee withdrew the proposed change.

For further details with respect to this action, see the application for amendment dated October 24, 2012, as supplemented by letters dated March 30, April 12, April 30, and June 18, 2012, and the licensee's letter dated September 27, 2012, which withdrew the application for license amendment.

Dated at Rockville, Maryland, this 3rd day of October, 2012.
For the Nuclear Regulatory Commission.
Joseph M. Sebrosky,
Senior Project Manager, Plant Licensing Branch IV, Division of Operating Reactor Licensing, Office of Nuclear Reactor Regulation.

[FR Doc. 2012-24996 Filed 10-10-12; 8:45 am]

BILLING CODE 7590-01-P